DEPARTMENT OF EDUCATION

Office of Safe and Drug-Free Schools; Overview Information; School-Based Student Drug-Testing Programs; Notice Inviting Applications for New Awards for Fiscal Year (FY) 2005

Catalog of Federal Domestic Assistance (CFDA) Number: 84.184D.

Dates: Applications Available: July 7, 2005.

Deadline for Transmittal of Applications: August 16, 2005.

Deadline for Intergovernmental Review: September 15, 2005.

Eligible Applicants: Local educational agencies (LEAs) and public and private entities.

Estimated Available Funds: $6,500,000. Contingent upon the availability of funds, the Secretary may make additional awards in FY 2006 from the list of unfunded applicants from this competition.

Estimated Range of Awards: $100,000-$300,000.

Estimated Average Size of Awards: $200,000.

Estimated Number of Awards: 32.

Note: The Department is not bound by any estimates in this notice.

Project Period: Up to 36 months.

Full Text of Announcement

I. Funding Opportunity Description

Purpose of the Program: The School-Based Student Drug-Testing program awards grants to LEAs and public and private entities to develop and implement, or expand, school-based drug-testing programs for students.

Priorities: These priorities are from the notice of final eligibility and application requirements, priorities, and selection criteria for this competition, published elsewhere in this issue of the Federal Register.

Absolute Priority: For FY 2005 and any subsequent year in which we make awards based on the list of unfunded applications from this competition, this priority is an absolute priority. Under 34 CFR 75.105(c)(3) we consider only applications that meet this priority.

This priority is:

Mandatory Random and Voluntary Student Drug-Testing Programs. Under this priority, we will provide Federal financial assistance to eligible applicants to develop and implement, or expand, school-based mandatory random or voluntary drug-testing programs for students in one or more grades 6 through 12. Any drug-testing program conducted with funds awarded under this priority must be limited to one or more of the following:

(1) Students who participate in the school's athletic program;

(2) Students who are engaged in competitive, extracurricular, school-sponsored activities; and

(3) A voluntary drug-testing program for students who, along with their parent or guardian, have provided written consent to participate in a random drug-testing program. Applicants that propose voluntary drug testing for students who, along with their parent or guardian, provide written consent, must not prohibit students who do not consent from participating in school or extracurricular activities.

Note: Applicants are encouraged to ensure, to the extent feasible, that all students who participate in the drug-testing program remain in the random drug-testing pool for the entire academic year.

Competitive Preference Priority: Within this absolute priority, we give competitive preference to applications that address the following priority.

For FY 2005 and any subsequent year in which we make awards based on the list of unfunded applications from this competition, this priority is a competitive preference priority. Under 34 CFR 75.105(C)(2)(i) we will award 10 additional points to applicants that propose mandatory random drug testing in two or three schools and 15 additional points to applicants that propose mandatory random drug testing in four or more schools. Although students in grades from 6 through 8 may be drug tested under this priority, competitive preference points will only be credited for applicants that propose, at a minimum, drug testing of students in three or more grades from 9 through 12.

This priority is:

National Evaluation of Mandatory Random Student Drug-Testing Programs. Under this priority, we will provide Federal financial assistance to eligible applicants to develop and implement school-based mandatory random drug-testing programs for students in one or more grades from 6 through 12. Any drug-testing program conducted with funds awarded under this priority must be limited to one or more of the following:

(1) All students who participate in the school's athletic program; and

(2) All students who are engaged in competitive, extracurricular, school-sponsored activities.

Applicants for this priority must propose drug testing in two or more schools within the same LEA that do not have an existing drug-testing program in operation. Drug testing must include, at a minimum, students in three or more grades from 9 through 12. In addition, applicants for this priority must:

(1) Not have a voluntary testing component proposed as part of their program;

(2) Provide an assurance that the schools randomly assigned to not begin mandatory random drug testing will not implement any drug-testing program for the duration of the national evaluation;

(3) Agree to cooperate with all data collection activities that the national evaluation will conduct in all the schools;

(4) Develop and implement mandatory random drug-testing policies and procedures to be carried out consistently in all schools selected to implement drug testing;

(5) Institute a policy of mandatory random drug-testing for the entire academic year in the schools selected to implement drug testing;

(6) Ensure that, to the extent feasible, all eligible students who participate in the drug-testing program remain in the random drug testing pool for the entire academic year; and

(7) Agree to participate in the national evaluation and provide an assurance that the applicant will cooperate with the national evaluator in obtaining parental consent for student participation in surveys that the national evaluator will administer in all the selected schools (control and experimental).

At the time of the grant award, the Department of Education's evaluator will randomly assign the schools either to receive the intervention (mandatory random drug testing) or not receive the intervention (no mandatory random drug testing). The evaluator will collect outcome data in both sets of schools.

Application Requirements: The following requirements apply to all applications submitted under this program:

(1) Applicants may not submit more than one application for an award under this program.

(2) Applicants may not have been the recipient or beneficiary of a grant in 2003 under the Department of Education Demonstration Grants for Student Drug-Testing competition.

(3) Non-LEA applicants must submit a letter of agreement to participate from an LEA. The letter must be signed by the applicant and an authorized representative of the LEA. Letters of support are not acceptable as evidence of the required agreement.

(4) Funds may not be used for the following purposes:

(a) Student drug tests administered under suspicion of drug use;

(b) Incentives for students to participate in programs;

(c) Drug treatment; or

(d) Drug prevention curricula or other prevention programs.

(5) Applicants must:

(a) Identify a target population and demonstrate a significant need for drug testing within the target population;

(b) Explain how the proposed drug-testing program will be part of an existing, comprehensive drug prevention program in the schools to be served;

(c) Provide a comprehensive plan for referring students who are identified as drug users through the testing program to a student assistance program, counseling, or drug treatment if necessary;

(d) Provide a plan to ensure the confidentiality of drug-testing results, including a provision that prohibits the party conducting drug tests from disclosing to school officials any information about a student's use of legal medications;

(e) Limit the cost of site-based evaluations to no more than 10 percent of total funds requested; and

(f) Provide written assurances of the following:

(i) That results of student drug tests will not be disclosed to law enforcement officials;

(ii) That results of student drug tests will be destroyed when the student graduates or otherwise leaves the LEA or private school involved;

(iii) That all positive drug tests will be reviewed by a certified medical review officer;

(iv) That legal counsel has reviewed the proposed program and advised that the program activities do not appear to violate established constitutional principles or State and Federal requirements related to implementing a student drug-testing program; and

(v) That all proposed activities will be carried out in accordance with the requirements of the Family Educational Rights and Privacy Act (FERPA) and the Protection of Pupil Rights Amendment (PPRA).

Program Authority: 20 U.S.C. 7131.

Applicable Regulations: (a) The Education Department General Administrative Regulations (EDGAR) in 34 CFR parts 74, 75, 77, 79, 80, 81, 82, 84, 85, 86, 97, 98, 99, and 299. (b) The notice of final eligibility and application requirements, priorities, and selection criteria published elsewhere in this issue of the Federal Register.

Note: The regulations in part 79 apply to all applicants except Federally recognized Indian tribes.

Note: The regulations in part 86 apply to institutions of higher education only.

II. Award Information

Type of Award: Discretionary grants.

Estimated Available Funds: $6,500,000. Contingent upon the availability of funds, the Secretary may make additional awards in FY 2006 from the list of unfunded applicants from this competition.

Estimated Range of Awards: $100,000-$300,000.

Estimated Average Size of Awards: $200,000.

Estimated Number of Awards: 32.

Note: The Department is not bound by any estimates in this notice.

Project Period: Up to 36 months.

III. Eligibility Information

1. Eligible Applicants: LEAs and public and private entities.

2. Cost Sharing or Matching: This competition does not involve cost sharing or matching.

3. Other:

(a) Participation by Private School Children and Teachers. Entities receiving a grant under the School-Based

Student Drug-Testing program are required to provide for the equitable participation of private school children and their teachers or other educational personnel. In order to ensure that grant program activities address the needs of private school children, timely and meaningful consultation with appropriate private school officials must occur during the design and development of the program. This consultation must take place before any decision is made that affects the opportunities of eligible private school children, teachers, and other educational personnel to participate. Administrative direction and control over grant funds must remain with the grantee. See Section 9501, Participation by Private School Children and Teachers, of the Elementary and Secondary Education Act of 1965, as amended by the No Child Left Behind Act of 2001.

(b) Maintenance of Effort.

An LEA may receive a grant under the School-Based Student Drug-Testing program only if the State educational agency finds that the combined fiscal efforts per student or the aggregate expenditures of the agency and the State with respect to the provision of free public education by the agency for the preceding fiscal year was not less than 90 percent of the combined fiscal effort or aggregate expenditures for the second preceding fiscal year.

(c) Participation of Faith-based Organizations. Faith-based organizations are eligible to apply for grants under this competition provided they meet all statutory and regulatory requirements.

IV. Application and Submission Information

1. Address to Request Application Package: Education Publications Center (ED Pubs), PO Box 1398, Jessup, Maryland 20794-1398. Telephone (toll free): 1-877-433-7827. Fax: 301-470-1244. If you use a telecommunications device for the deaf (TDD), you may call (toll free): 1-877-576-7734.

You may also contact Ed Pubs at its Web site: http://www.ed.gov/pubs/edpubs.html or you may contact ED Pubs at its e-mail address: edpubs@inet.ed.gov.

If you request an application from ED Pubs be sure to identify this competition as follows: CFDA number 84.184D.

You may also download the application from the Department of Education's Web site at: http://www.ed.gov/fund/grant/apply/grantapps/index/html.

Individuals with disabilities may obtain a copy of the application in an alternative format (e.g., Braille, large print, audiotape, or computer diskette) by contacting the program contact person listed in this section.

The public can also obtain applications directly from the program office: Robyn Disselkoen or Sigrid Melus, U.S. Department of Education, 400 Maryland Avenue, SW., room 3E259, Washington, DC 20202-6450. Telephone: (202) 260-3954 or by e-mail: OSDFSdrugtesting@ed.gov.

If you use a telecommunications device for the deaf (TDD), you may call the Federal Relay Service (FRS) at 1-800-877-8339.

2. Content and Form of Application Submission: See the Application Requirements section elsewhere in this notice. Additional requirements concerning the content of an application, together with the forms you must submit, are in the application package for this program.

3. Submission Dates and Times: Applications Available: July 7, 2005.

Deadline for Transmittal of Applications: August 16, 2005.

Applications for grants under this competition may be submitted electronically using the Electronic Grant Application System (e-Application) accessible through the Department's e-Grants system, or in paper format by mail or hand delivery. For information (including dates and times) about how to submit your application electronically, or by mail or hand delivery, please refer to section IV.6. Other Submission Requirements in this notice.

We do not consider an application that does not comply with the deadline requirements.

Deadline for Intergovernmental Review: September 13, 2005.

4. Intergovernmental Review: This competition is subject to Executive Order 12372 and the regulations in 34 CFR Part 79. Information about Intergovernmental Review of Federal Programs under Executive Order 12372 is in the application package for this competition.

5. Funding Restrictions: We reference additional regulations outlining funding restrictions in the Applicable Regulations section of this notice.

6. Other Submission Requirements: Applications for grants under this competition may be submitted electronically or in paper format by mail or hand delivery.

a. Electronic Submission of Applications. If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.184D), 400 Maryland Avenue, SW., Washington, DC 20202-4260; or

By mail through a commercial carrier: U.S. Department of Education, Application Control Center—Stop 4260, Attention: (CFDA Number 84.184D), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.184D), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from the notice of final eligibility and application requirements, priorities, and selection criteria published elsewhere in this issue of the Federal Register, and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measure: The Department has established the following GPRA performance measure for the School-Based Student Drug-Testing program: The reduction of the incidence of drug use in the past month and past year. The Secretary has set an overall performance target that calls for the prevalence of drug use by students in the target population to decline by five percent annually.

This measure constitutes the Department's indicator of success for this program. Consequently, applicants for a grant under this program are advised to give careful consideration to this measure in conceptualizing the approach and evaluation for their proposed project. If funded, applicants will be asked to collect and report data in their annual performance and final reports about progress toward this measure.

VII. Agency Contacts

FOR FURTHER INFORMATION CONTACT: Robyn Disselkoen or Sigrid Melus, U.S. Department of Education, 400 Maryland Avenue, SW., room 3E259, Washington, DC 20202-6450. Telephone: (202) 260-3954. E-mail address: OSDFSdrugtesting@ed.gov.

If you use a telecommunications device for the deaf (TDD), you may call (toll free) 1-877-576-7734.

Individuals with disabilities may obtain this document in an alternative format (e.g., Braille, large print, audiotape, or computer diskette) on request to the contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/drugtesting/applicant.html.

Note: The official version of this document is the document published in the Federal Register. Free Internet access to the official edition of the Federal Register and the Code of Federal Regulations is available on GPO Access at: http://www.gpoaccess.gov/nara/index.html.

Dated: July 5, 2005.
Deborah A. Price,
Assistant Deputy Secretary for Safe and Drug-Free Schools.

[FR Doc. 05-13494 Filed 7-6-05; 8:45 am]

BILLING CODE 4000-01-P